DEPARTMENT OF HOUSING AND URBAN DEVELOPMENT

[Docket No. FR-5044-N-17]

Notice of Proposed Information Collection for Public Comment; Section 901 Notice of Intent, Fungibility Plan and Report

AGENCY: Office of the Assistant Secretary for Public and Indian Housing (PIH), HUD.

ACTION: Notice.

SUMMARY: The proposed information collection requirement described below will be submitted to the Office of Management and Budget (OMB) for review, as required by the Paperwork Reduction Act. The Department is soliciting public comments on the subject proposal.

DATES: Comments Due Date: November 13, 2006.

ADDRESSES: Interested persons are invited to submit comments regarding this proposal. Comments should refer to the proposal by name and or OMB Control number and should be sent to: Aneita Waites, Reports Liaison Officer, Public and Indian Housing, Department of Housing and Urban Development, 451 Seventh Street, SW., Room 4116, Washington, DC 20410.

FOR FURTHER INFORMATION CONTACT: Sherry Fobear-McCown, Program Analyst (202) 708-0713, extension 7651, (This is not a toll-free number) Fax number 202 708-0866.

SUPPLEMENTARY INFORMATION: The Department will submit the proposed information collection to OMB for review, as required by the Paperwork Reduction Act of 1995 (44 U.S.C. Chapter 35, as amended). Division B of the Department of Defense, Emergency Supplemental Appropriations to Address Hurricanes in the Gulf of Mexico, and Pandemic Influenza Act, 2006 (Pub. L. 109-148; approved December 30, 2005), among other things, makes emergency supplemental appropriations to address the hurricane devastation in the Gulf of Mexico. Section 901 of this supplemental appropriations act permits eligible PHAs to combine their Capital Funds (section 9(d) of the United States Housing Act of 1937 (42 U.S.C. 1437 et seq.) (1937 Act)), Operating Funds (section 9(e) of the 1937 Act), and Housing Choice Voucher Funds (section 8(o) of the 1937 Act) to assist families who were displaced by Hurricane Katrina or Rita. HUD has issued a Notice in the Federal Register providing guidance on how eligible PHAs may implement this flexibility and how PHAs must report the planned activities and accomplishments from using this flexibility.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public and Indian Housing, Section 901 Notice of Intent and Fungibility Plan and Reports.

OMB Control Number: 2577-0245.

Description of the need for the information and proposed use: The Notice of Intent is necessary for HUD to be informed about which eligible PHAs elect to invoke the funding flexibility authorized by section 901 of the Emergency Supplemental Appropriations (PL 109-148). The Fungibility Plan and Reports are necessary for HUD to know how eligible PHAs plan to reallocate and spend these funds.

Agency form numbers, if applicable: None.

Members of affected public: Eligible Public Housing Agencies in the areas most heavily impacted by Hurricanes Katrina and Rita.

Estimation of the total number of hours needed to prepare the information collection including number of respondents, frequency of response, and hours of response:

• Notification of Intent and Fungibility Plan: one-time submission estimated to take 60 hours for each of the 96 PHAs, for a total reporting burden of 5760 hours.

• Quarterly Report for Capital Fund activities: Response time per report estimated at two hours. Report will be submitted by each PHA four times per year up to four years for a total annual reporting burden of 768 hours.

• Final Report: one-time submission estimated to take six hours for each of the 96 PHAs, for a total reporting burden of 576 hours.

Status of the proposed information collection: Extension of a previously approved collection.

Authority: Section 3506 of the Paperwork Reduction Act of 1995, 44 U.S.C. Chapter 35, as amended.

Dated: September 8, 2006.
Merrie Nichols-Dixon,
Acting Deputy Assistant Secretary for Policy, Program, and Legislative Initiatives.

[FR Doc. E6-15215 Filed 9-13-06; 8:45 am]

BILLING CODE 4210-67-P